DEPARTMENT OF STATE

[Public Notice 7367]

Bureau of Educational and Cultural Affairs (ECA) Request for Grant Proposals: One Beat

Announcement Type: New Cooperative Agreement.

Funding Opportunity Number: ECA/PE/C/CU-11-45.

Catalog of Federal Domestic Assistance Number: 19.415.

Key Dates: September 1, 2011 to September 30, 2013.

Application Deadline: May 16, 2011.

Executive Summary: The Cultural Programs Division of the Bureau of Educational and Cultural Affairs (ECA) announces an open competition for a series of 2-4 week group programs for approximately 55-65 young (average age 19-35) foreign musicians and music professionals from selected countries that will highlight artistic collaboration, improvisation, mentoring, and professional training opportunities. One Beat is a programmatic refinement of the existing Fiscal Year 2010 Cultural Visitors program. The original Cultural Visitors Program was initiated in Fiscal Year 2005 and targeted key countries in the Muslim world and on priority youth audiences in those countries. Vital to the innovative use of the arts in foreign policy are the elements of artistic collaboration, audience engagement, professional enrichment, and artistic production. By concentrating on music, One Beat seeks to combine these elements into cohesive group programs which enhance cross-cultural understanding and demonstrate democratic values such as collaboration, cohesion, and innovation to strengthen the leadership and professional potential of the participants as well as enrich their American counterparts. The program should seek innovative ways to incorporate new media to enhance the program offerings and extend the impact of the program.

The goals of the program are to:

• Energize the work of international musicians in their own countries;

• Provide unique opportunities for musical collaboration, engagement, and performance among the international participants and with their American peers and American music professionals;

• Provide participants with instructive and informative experiences in their art form;

• Provide exposure to the creation and performance of world-class American music;

• Create opportunities for sustaining relationships with U.S. arts professionals; and

• Provide opportunities for educational outreach to American audiences and students.

Pending the availability of funds, ECA will provide approximately $1,000,000 to the award recipient to implement this program through a cooperative agreement. The agreement will cover project activities from September 1, 2011 to September 30, 2013.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

Cultural diplomacy, an essential facet of America's foreign policy, strives to enhance cross-cultural understanding and open new avenues of dialogue between individuals and nations. It builds on Secretary Clinton's concept of “smart power,” which utilizes a variety of means to achieve our 21st Century foreign policy goals. This program ventures to create a dialogue through musical collaboration and professional development that will enrich both the international participants and the Americans with whom they meet.

Program Description

ECA welcomes innovative and creative approaches to programming, which:

• Offers coherent approaches to developing the artistic talents and skills of the participants (activities include, but are not limited to master classes, professional conferences, festivals, workshops, lectures, demonstrations, group work, impromptu play, jam sessions, and attendance at performances);

• Uses new media to enhance and extend the impact and richness of the program through online collaborations and educational programming among other activities;

• Provides mentoring by and exposure to well-respected American artists, diverse cultural organizations and productions;

• Fosters creative musical collaborations, cohesion and open dialogue between the participants and their professional American peers;

• Engages with the diversity of the American public through non fee-based public performance and/or presentation. (Please note that the production and presentation costs of performances in the United States cannot be funded by ECA, but can be included in the organization's cost share.);

• Visits multiple U.S. arts organizations and cities to present a diverse view of American music, musicians, music professionals, and;

• Establishes a foundation for sustaining professional networks and relationships.

Participants

ECA envisions that approximately 55-65 young foreign musicians in contemporary genres (including but not limited to urban, hip-hop, roots, rock, electronic, and world music) and music professionals (including but not limited to composers, producers, arrangers, songwriters, and DJs) from selected countries will visit the United States in a series of specially designed group programs organized by the award recipient in consultation with ECA. Participant composition should reflect an emphasis on musicians.

Foreign participants must be between 19-35 years of age, demonstrate high artistic abilities and professional performance experience, a predisposition to engage with their community through their art, promise in solo and ensemble performance (as appropriate), commitment to teaching and to their craft, and be conversant with broader aspects of society, their home culture and artistic patrimony. Participants should be prepared to conduct or participate in master classes, lecture demonstrations, workshops, impromptu sessions, media outreach, and educational activities with peers, students, and general audiences. They should also be adaptable to performance in situations of varying infrastructure and sophistication.

ECA's Responsibilities

In a cooperative agreement, ECA is substantially involved in program activities above and beyond routine monitoring. Specifically, ECA will:

• Identify countries from which the participants will be selected and provide contact information at posts to award recipient;

• Advise selected countries for recruitment of participants;

• Provide final approval on the award recipient's participant recommendations;

• Review and approve daily schedules and program materials;

• Review and approve media and outreach plans;

• Issue DS-2019 forms to participants; and

• Participate in briefing and debriefing sessions as possible.

Award Funding and Award recipient Responsibilities

In consultation with ECA, the award recipient will:

Participant Selection

• Develop participant selection criteria;

• Develop an application process and timeline (efforts should be made to make it web-based);

• Work with Embassy staff to coordinate the recruitment and solicitation of foreign participants and alternates for U.S. based programs;

• Based on qualifications, recommend participants to ECA for review and approval;

• Inform posts of final selections.

Program Development and Management

• Devise innovative and multi-faceted plans for the program components with detailed timelines for accomplishing each project activity in consultation with ECA program staff;

• Within 3-6 months of the beginning of the award period, submit to ECA for approval proposed outlines and schedules for the music programs, and then advise posts on the application, recruitment and participant selection process. Outlines should include goals and objectives for the programs and suggested participant profiles.

• Recruit American participants and institutions to be engaged in activities with the exchange participants. American site locations are to be determined by the award recipient's organization in consultation with ECA. The award recipient will consult with ECA, but ultimately be responsible for the design and implementation of program development and composition such as performances, workshops, master classes and outreach programs at each site. The programs must strive to represent a diversity of American organizations, regions and cities.

• Orient host institutions and staff to the goals of the program, and to the cultures and sensitivities of the participants;

• Coordinate and identify group coordinator/escort and/or interpreter travel, lodging and other arrangements needed for their participation, including airport meet and greet;

• Maintain liaison with ECA and program participants to ensure the program schedule is compatible with needs and objectives. Provide ECA and program participants with a final program schedule no later than 2 weeks prior to their arrival in the U.S.;

• Provide day-to-day monitoring of the program to prevent and/or manage any issues or complications that may arise;

• Work in consultation with ECA on the implementation of the program, provide timely reporting of progress to ECA, and comply with financial and program reporting requirements.

• Create and encourage solid follow-on projects (not supported by funding from this award) in order to continue and deepen the relationships created by these projects between the award recipient and foreign participants;

• Design and implement an evaluation plan that assesses the impact of the program.

• Contact participants before the program to provide program information, pre-departure materials, and to gather information necessary for visa issuance and specific requirements (dietary, medical, etc.);

• Enroll participants in a health insurance plan for the period of the exchange. Participants can be enrolled in the Bureau's Accident and Sickness Program for Exchanges (ASPE) with no charge to the cooperative agreement. Alternatively, you may use your own plan as long as it offers the same or better coverage and costs no more than $50 per person per month; premiums may be included in the agreement request;

• Facilitate the J-1 visa application process, working with ECA and the Public Affairs Sections (PAS) at the relevant U.S. Embassies and/or Consulates;

• Cover the cost of and arrange all international and domestic travel and lodging for U.S. and foreign participants; including travel for visa interviews when necessary;

• Arrange for an orientation session upon arrival to provide programmatic and logistical information;

• Provide a de-briefing session at the end of the program for evaluation, to summarize the project activities, prepare participants for their return home, and plan for possible follow on activities. Whenever possible, de-briefing sessions should take place in Washington and should include an introduction to the nation's capital and the U.S. form of government;

• Manage all financial aspects of the program, including stipend disbursements to the participants and management of sub-award relationships with partner organizations, if applicable. The proposal should clearly outline all duties and responsibilities of U.S. organizations with which you plan to partner; describe work requirements and provide representative budgets. The applicant must submit a comprehensive budget for the entire program. There must be a summary budget, as well as breakdowns reflecting both administrative and program budgets. The applicant may provide separate sub-budgets for each program component, phase, location, or activity to provide clarification.

• Work in consultation with ECA to develop and implement a media and marketing plan that includes but is not limited to program branding, press strategy, press/media packets, program Web site and social media plan. The award recipient will prepare educational and promotional materials that support the program.

The proposal submitted must demonstrate how these activities/objectives will be met. The proposal narrative should be substantive and provide detailed information on major program activities to be undertaken. In particular, the proposal should include a thorough outline of the program with a list of arts organizations and musicians/artists that the participants will visit in the United States, and potential musicians/artists and/or host arts organizations across the country with which the applicant plans to place the participants for mentoring/collaboration opportunities.

Applicants should submit a complete and thorough proposal describing the program in a convincing and comprehensive manner, with an eye towards artistic collaboration, professional development, innovation, and new media. Since there is no opportunity for applicants to meet with reviewing officials, the proposal should respond to the criteria set forth in the solicitation and other guidelines as clearly as possible.

The Executive Summary should contain an overview of the goals and activities of the program. The Narrative should deal with program facts, rather than the history of the organization which should be addressed in the section “Institutional Capacity.” In the narrative, applicants should not only describe major program activities but also explain and justify their programmatic choices. Applicants should outline their project team's capacity for doing projects of this nature and provide a detailed sample program to illustrate planning capacity and ability to achieve program objectives. Applicants should describe previous cooperative projects in the section on “Institutional Capacity.” For this competition, applicants should include in their proposal supporting materials or documentation that demonstrates a minimum of four years experience in conducting global exchanges in the performing arts.

The recipient organization is responsible for all components of the program outlined in this document. The organization must also inform the ECA program officer of its progress at each stage of the project's implementation in a timely fashion. All materials and correspondence related to the program will acknowledge this as a program of the Bureau of Educational and Cultural Affairs of the U.S. Department of State. The Bureau will retain copyright use of and be allowed to distribute materials related to this program as it sees fit.

II. Award Information

Type of Award: Cooperative Agreement. ECA's level of involvement in this program is listed under number I above.

Fiscal Year Funds: 2011.

Approximate Total Funding: $1,000,000.

Approximate Number of Awards: 1.

Approximate Average Award: $1,000,000.

Ceiling of Award Range: $1,000,000.

Anticipated Award Date: Pending availability of funds, September 1, 2011.

Anticipated Project Completion Date: September 30, 2013

Additional Information: Pending successful implementation of this program and the availability of funds in subsequent fiscal years, it is ECA's intent to renew this cooperative agreement for two additional fiscal years, before openly competing it again.

III. Eligibility Information

III.1. Eligible applicants: Applications may be submitted by public and private non-profit organizations meeting the provisions described in Internal Revenue Code section 26 USC 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Grants awarded to eligible organizations with less than four years of experience in conducting international exchange programs will be limited to $60,000.

(b) Technical Eligibility: All proposals must comply with the following:

• Full adherence to the guidelines stated herein and in the Solicitation Package;

• Proposal submission deadline date;

• Non-profit organization status, and

• For purposes of this competition, at least four years of demonstrated experience in programming in the performing arts, or your proposal will be declared technically ineligible and given no further consideration in the review process.

IV. Application and Submission Information

Note: Please read the complete announcement before sending inquiries or submitting proposals. Once the RFGP deadline has passed, Bureau staff may not discuss this competition with applicants until the proposal review process has been completed.

IV.1 Contact Information To Request an Application Package

Please contact the Julia Gómez-Nelson in the Cultural Programs Division, ECA/PE/C/CU, SA-5, 3rd Floor, U.S. Department of State, 2200 C Street, NW., Washington, DC 20037, (T) 202-632-6409, (F) 202-632-9355, nelsonjg2@state.gov to request a Solicitation Package. Please refer to the Funding Opportunity Number ECA/PE/C/CU-11-45 located at the top of this announcement when making your request.

Alternatively, an electronic application package may be obtained from grants.gov. Please see section IV.3f for further information.

The Solicitation Package contains the Proposal Submission

Instruction (PSI) document which consists of required application forms, and standard guidelines for proposal preparation.

Please specify Julia Gómez-Nelson and refer to the Funding Opportunity Number ECA/PE/C/CU-11-45 located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. All federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov website as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa. The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements.

ECA will be responsible for issuing DS-2019 forms to participants in this program.

A copy of the complete regulations governing the administration of Exchange Visitor (J) programs is available at http://exchanges.state.gov or from: Office of Designation, Private Sector Programs Division, U.S. Department of State, ECA/EC/D/PS, SA-5, 5th Floor, 2200 C Street, NW., Washington, DC 20037.

Please refer to Solicitation Package for further information.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. Describe your plans for: Sustainability, overall program management, staffing, coordination with ECA and PAS or any other requirements.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs for the program include but are not limited to the following:

(1) Program Expenses, including but not limited to: Domestic and international travel for the selected participants (per The Fly America Act); visas and immunizations; airport taxes and country entrance fees; honoraria; educational materials and presentation items; excess and overweight baggage fees; trip itinerary booklets; press kits and promotional materials; follow-on activities; monitoring and evaluation; and other justifiable expenses related to program activities.

The following guidelines may be helpful in developing a proposed budget:

• Travel Costs. International and domestic airfares. (per The Fly America Act), transit costs, ground transportation, and visas participants to travel to program destinations. Travel costs should also include airfare for selected participants to travel for visa interviews.

• Per Diem: Domestic per diem rates may be accessed at: http://www.gsa.gov/Portal/gsa/ep/contentView.do?contentId=17943&contentType=GSA_BASIC%20

• Sub-recipient and Consultants. Sub-recipient organizations may be used, in which case the written agreement between the prospective recipient and sub-recipient should be included in the proposal. Sub-grants must be itemized in the budget under General Program Expenses. Consultants/interpreters/group coordinators/escorts may be used to provide specialized expertise. Daily honoraria cannot exceed $250 per day, and applicants are strongly encouraged to use organizational resources, and to cost share heavily in this area.

• Health Insurance. Participants can be enrolled in the Bureau's Accident and Sickness Program for Exchanges (ASPE) with no charge to the cooperative agreement. Alternatively, you may use your own plan as long as it offers the same or better coverage and costs no more than $50 per person per month; premiums may be included in the agreement request. Please see http://exchanges.state.gov/aspe for more information on coverage. Please refer to the PSI for allowable costs and complete budget guidelines and formatting instructions.

• Your proposal should show strong administrative cost sharing contributions. Maximum limits on cooperative agreement funding are as follows: Books and educational materials allowance-$100 per participant; Conference room rental costs-$250 per day per room; Consultant fees and honoraria-$200/day; Cultural allowance-$150 per participant; honoraria for foreign participants-$200/day; per diem-standard government rates; Evaluation costs-5% of the cooperative agreement. Organizations are encouraged to cost-share any rates that exceed these amounts.

• Excess Baggage. Excess baggage costs are based on the size and weight of the instrument. Excess baggage estimates may be subject to change once actual programs are scheduled.

• Immunizations/Visas. For purposes of a proposed budget, line items for immunizations should be estimated at $400 per musician, and visas/visa photos should be estimated at $600 per musician.

• Translation of outreach and/or educational materials.

• Staff Travel. Allowable costs include domestic staff travel for one staff member to attend pre and post program briefings if held in cities different that awardee's headquarters.

• For purposes of this proposal's budget please use the following program as a model: A three week program in music for 8 participants from 7 countries accompanied by one group coordinator and two interpreters to travel to 3 cities in the United States to conduct intensive professional development programs consisting of workshops, master classes, attendance at relevant festivals or professional conferences, artist-to-artist engagement, outreach activities and performances. Participants will participate in a two-day orientation in Washington, DC, before travelling to Chicago, IL for a 5 to 7 day residency to include multiple master classes with professional and student artists, attendance at a professional music festival to attend performances, meet fellow artists, participate in impromptu play or jam sessions, and participate in a performance. The group will then travel to Nashville, TN for a residency of the same length and composition, after which they will depart Tennessee and travel to Washington, DC for a final debrief and performance.

2. Administrative Costs. Costs necessary for the effective administration of the program may include salaries for grantee organization employees, benefits, and other direct and indirect costs per detailed instructions in the Solicitation Package. While there is no rigid ratio of administrative to program costs, proposals in which the administrative costs do not exceed 25% of the total requested from ECA grant funds will be more competitive on cost effectiveness. Please refer to the Solicitation Package for complete budget guidelines and formatting instructions.

Please refer to the Solicitation Package for complete budget guidelines and formatting instructions.

IV.3f. Application Deadline and Methods of Submission:

Application Deadline Date: May 16, 2011

Reference Number: ECA/PE/C/CU-11-45

Methods of Submission:

Applications may be submitted in one of two ways:

(1.) In hard-copy, via a nationally recognized overnight delivery service (i.e., Federal Express, UPS, Airborne Express, or U.S. Postal Service Express Overnight Mail, etc.), or

(2.) electronically through http://www.grants.gov.

Along with the Project Title, all applicants must enter the above Reference Number in Box 11 on the SF-424 contained in the mandatory Proposal Submission Instructions (PSI) of the solicitation document.

IV.3f.1 Submitting Printed Applications.

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 10 copies of the application should be sent to: Program Management Division, ECA-IIP/EX/PM, Ref.: ECA/A/S/U-10-01 (each program office assigns a unique number) SA-5, Floor 4, Department of State, 2200 C Street, NW., Washington, DC 20037.

(Include following language re: CD-ROM submission only if proposals will be forwarded to embassies. If post input is not necessary, delete language.)

Applicants submitting hard-copy applications must also submit the “Executive Summary” and “Proposal Narrative” sections of the proposal in text (.txt) or Microsoft Word format on CD-ROM. As appropriate, the Bureau will provide these files electronically to Public Affairs Section(s) at the U.S. embassy(ies) for its(their) review.

IV.3f.2—Submitting Electronic Applications.

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the ‘Get Started’ portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov website includes extensive information on all phases/aspects of the Grants.gov process, including an extensive section on frequently asked questions, located under the “For Applicants” section of the website. ECA strongly recommends that all potential applicants review thoroughly the Grants.gov website, well in advance of submitting a proposal through the Grants.gov system. ECA bears no responsibility for data errors resulting from transmission or conversion processes.

Direct all questions regarding Grants.gov registration and submission to:

Grants.gov Customer Support.

Contact Center Phone: 800-518-4726.

Business Hours: Monday-Friday, 7 a.m.-9 p.m. Eastern Time.

Email: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov website, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning and Ability to achieve program objectives: Detailed agenda and relevant work plan should demonstrate substantive undertakings and logistical capacity. Agenda and plan should adhere to the program overview and guidelines described above. Objectives should be reasonable, feasible, and flexible. Proposals should clearly demonstrate how the institution will meet the program's objectives and plan.

3. Multiplier effect/impact and Follow on Activities: Proposed programs should strengthen long-term mutual understanding, including maximum sharing of information and establishment of long-term institutional and individual linkages. Proposals should provide a plan for continued follow-on activity (without Bureau support) ensuring that Bureau supported programs are not isolated events.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity and Ability: Proposed personnel and institutional resources should be adequate and appropriate to achieve the program or project's goals. Proposals should demonstrate an institutional record of successful exchange programs, including responsible fiscal management and full compliance with all reporting requirements for past Bureau awards (grants or cooperative agreements) as determined by Bureau Grants Staff. The Bureau will consider the past performance of prior recipients and the demonstrated potential of new applicants.

6. Project Evaluation: Proposals should include a plan to evaluate the activity's success, both as the activities unfold and at the end of the program. A draft survey questionnaire or other technique plus description of a methodology to use to link outcomes to original project objectives is recommended.

7. Cost-effectiveness and Cost Sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b The following additional requirements apply to this project:

For assistance awards involving Iran:

A critical component of current U.S. government Iran policy is the support for indigenous Iranian voices. The State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. §§ 2339A and 2339B; Executive Order 13224; and Homeland Security Presidential Directive 6. These licensing conditions mandate that the Department conduct a vetting of potential Iran award recipients and sub-grantees for counter-terrorism purposes. To conduct this vetting the Department will collect information from grantees and sub-grantees regarding the identity and background of their key employees and Boards of Directors.

Note: To assure that planning for the inclusion of Iran complies with requirements, please contact (Julia Gómez-Nelson, ECA/PE/C/CU at 202-487-8266 or nelsonjg2@state.gov.) for additional information.

For assistance awards involving the Palestinian Authority, West Bank, and Gaza:

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact (insert program office contact name, telephone and e-mail) for additional information.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following websites for additional information:

http://www.whitehouse.gov/omb/grants.

http://fa.statebuy.state.gov

VI.3. Reporting Requirements

You must provide ECA with a hard copy original plus one copy of the following reports:

(1.) A final program and financial report no more than 90 days after the expiration of the award;

(2.) A concise, one-page final program report summarizing program outcomes no more than 90 days after the expiration of the award. This one-page report will be transmitted to OMB, and be made available to the public via OMB's USAspending.gov Web site—as part of ECA's Federal Funding Accountability and Transparency Act (FFATA) reporting requirements.

(3.) A SF-PPR, “Performance Progress Report” Cover Sheet with all program reports.

(4.) Quarterly program and financial reports which should include, but are not limited to: Audience numbers for the public performances as well as participant numbers for the workshop/outreach activities; press clippings (print and web); proactive media outreach; photographs of activities; marketing/collateral materials produced for the program; program calendar; tour agendas and itineraries and relevant contact information; participant bio data and contact information; and program and administrative updates/recaps.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Julia Gómez-Nelson, U.S. Department of State, Cultural Programs Division, ECA/PE/C/CU, SA-5, 3rd Floor, ECA/PE/C/CU-11-45, 2200 C Street, NW., Washington, DC 20037,telephone 202-632-6409 and fax 202-632-9355, nelsonjg2@state.gov.

All correspondence with the Bureau concerning this RFGP should reference the above title and number ECA/PE/C/CU-11-45.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 9, 2011.
Ann Stock,
Assistant Secretary for Educational and Cultural Affairs, Department of State.

[FR Doc. 2011-6272 Filed 3-16-11; 8:45 am]

BILLING CODE 4710-05-P